DEPARTMENT OF HOMELAND SECURITY

Bureau of Customs and Border Protection

[Docket No. USCBP-2006-0116]

Notice of Meeting of The Departmental Advisory Committee on Commercial Operations of Customs and Border Protection and Related Homeland Security Functions (COAC)

AGENCY: U.S. Customs and Border Protection, Department of Homeland Security (DHS).

ACTION: Notice of meeting.

SUMMARY: The Departmental Advisory Committee on Commercial Operations of U.S. Customs and Border Protection and Related Homeland Security Functions (popularly known as “COAC”) will meet in open session.

DATES: Thursday, November 9, 2006, 9 a.m. to 1 p.m.

ADDRESSES: The meeting will be held at U.S. Customs and Border Protection, Office of Field Operations, One Penn Plaza, Suite 1100, New York, NY. If you desire to submit comments, they must be submitted by November 2, 2006. Comments must be identified by USCBP-2006-0116 and may be submitted by one of the following methods:

• Federal eRulemaking Portal: http://www.regulations.gov. Follow the instructions for submitting comments.

• E-mail: traderelations@dhs.gov. Include docket number in the subject line of the message.

• Mail: Ms. Wanda Tate, Office of Trade Relations, U.S. Customs and Border Protection, Department of Homeland Security, Washington, DC 20229.

• Facsimile: 202-344-1969.

Instructions: All submissions received must include the words “Department of Homeland Security” and the docket number for this action. Comments received will be posted without alteration at http://www.regulations.gov, including any personal information provided.

Docket: For access to the docket to read background documents or comments received by the COAC, go to http://www.regulations.gov.

FOR FURTHER INFORMATION CONTACT: Ms. Wanda Tate, Office of Trade Relations, Customs and Border Protection, Department of Homeland Security, Washington, DC 20229, telephone 202-344-1440; facsimile 202-344-1969.

SUPPLEMENTARY INFORMATION: Pursuant to the Federal Advisory Committee Act (5 U.S.C. App. 1 et seq.), DHS hereby announces the meeting of the Departmental Advisory Committee on Commercial Operations of U.S. Customs and Border Protection and Related Homeland Security Functions (COAC). COAC is tasked with providing advice to the Secretary of Homeland Security, the Secretary of the Treasury, and the Commissioner of Customs and Border Protection (CBP) on matters pertaining to the commercial operations of CBP and related functions within DHS or the Department of Treasury. The eighth meeting of the ninth term of COAC will be held at the date, time and location specified above. A tentative agenda for the meeting is set forth below.

The meeting is open to the public.¹ However, participation in COAC deliberations is limited to COAC members, Homeland Security and Treasury Department officials, and persons invited to attend the meeting for special presentations. Since seating is limited, all persons attending this meeting should provide notice, preferably by close of business Thursday, November 2, 2006, to Ms. Wanda Tate, Office of Trade Relations, U.S. Customs and Border Protection, Department of Homeland Security, Washington, DC 20229, telephone 202-344-1440; facsimile 202-344-1969.

¹ Upon entry into One Penn Plaza, a photo identification must be presented to the security guards.

For information on facilities or services for individuals with disabilities or to request special assistance at the meeting, contact Ms. Wanda Tate as soon as possible.

Tentative Agenda

1. Introductory Remarks.

2. Technology.

3. C-TPAT (Customs-Trade Partnership Against Terrorism).

4. CSI (Container Security Initiative).

5. Collection of Additional Data Elements for Cargo Security.

6. Office of Trade.

7. Port Security Legislation.

Dated: September 21, 2006.
Deborah J. Spero,
Acting Commissioner, Customs and Border Protection.

[FR Doc. E6-15784 Filed 9-27-06; 8:45 am]

BILLING CODE 9111-14-P